DEPARTMENT OF TRANSPORTATION

Federal Aviation Administration

14 CFR Part 39

[Docket No. 2002-NM-255-AD; Amendment 39-12909; AD 2002-21-03]

RIN 2120-AA64

Airworthiness Directives; Gulfstream Model G-V Series Airplanes

AGENCY: Federal Aviation Administration, DOT.

ACTION: Final rule; request for comments.

SUMMARY: This amendment adopts a new airworthiness directive (AD) that is applicable to certain Gulfstream Model G-V series airplanes. This action requires performing a one-time general visual inspection of the pilot's overhead circuit breaker panel wiring for discrepancies; rerouting the P45-12 wire; and repair, if necessary. This action is necessary to prevent circuit breaker wiring from becoming pinched or damaged, causing arcing between the wire and attaching bracket, which could result in smoke and/or fire in the pilot's circuit breaker panel. This action is intended to address the identified unsafe condition.

DATES: Effective October 21, 2002. The incorporation by reference of certain publications listed in the regulations is approved by the Director of the Federal Register as of October 21, 2002.

Comments for inclusion in the Rules Docket must be received on or before December 16, 2002.

ADDRESSES: Submit comments in triplicate to the Federal Aviation Administration (FAA), Transport Airplane Directorate, ANM-114, Attention: Rules Docket No. 2002-NM-255-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-255-AD” in the subject line and need not be submitted in triplicate. Comments sent via the Internet as attached electronic files must be formatted in Microsoft Word 97 for Windows or ASCII text.

The service information referenced in this AD may be obtained from Gulfstream Aerospace Corporation, P.O. Box 2206, M/S D-10, Savannah, Georgia 31402-9980. This information may be examined at the FAA, Transport Airplane Directorate, 1601 Lind Avenue, SW., Renton, Washington; or at the FAA, Atlanta Aircraft Certification Office, One Crown Center, 1895 Phoenix Boulevard, Suite 450, Atlanta, Georgia; or at the Office of the Federal Register, 800 North Capitol Street, NW., suite 700, Washington, DC.

FOR FURTHER INFORMATION CONTACT: Robert S. Chupka, Aerospace Engineer, Systems and Flight Test Branch, ACE-116A, FAA, Atlanta Aircraft Certification Office, One Crown Center, 1895 Phoenix Boulevard, Suite 450, Atlanta, Georgia 30349; telephone (770) 703-6070; fax (770) 703-6097.

SUPPLEMENTARY INFORMATION: The manufacturer has notified the FAA that a fire occurred in the pilot's overhead circuit breaker panel on a Gulfstream Model G-V series airplane while it was undergoing a landing gear cycling test. Investigation revealed that the P45-12 wire had been pinched between the circuit breaker panel and its attach bracket. The current wire routing within the pilot's circuit breaker panel allows the P45-12 wire to become pinched or damaged upon closing of the circuit breaker panel, which may arc to the metal attaching bracket during vibration. These conditions, if not corrected, could result in smoke and/or fire in the pilot's circuit breaker panel.

Explanation of Relevant Service Information

The FAA has reviewed and approved Gulfstream Alert Customer Bulletin No. 19, including Drawing 1159SB59301, dated September 26, 2002, including attachment, which describes procedures for a one-time general visual inspection of the pilot's overhead circuit breaker panel for discrepancies (e.g., wire damage). The inspection involves paying special attention to the P45-12 wire that runs from circuit breaker F10 to G5. The alert customer bulletin also describes procedures for rerouting wire P45-12 inside the standoff on the front of the panel, and contacting the manufacturer if discrepancies are found. Accomplishment of the actions specified in the alert customer bulletin is intended to adequately address the identified unsafe condition.

Explanation of the Requirements of the Rule

Since an unsafe condition has been identified that is likely to exist or develop on other Gulfstream Model G-V series airplanes of the same type design, this AD is being issued to prevent circuit breaker wiring from becoming pinched or damaged, causing arcing between the wire and attaching bracket, which could result in smoke and fire in the pilot's circuit breaker panel. This AD requires a one-time general visual inspection of the pilot's overhead circuit breaker panel wiring for discrepancies; rerouting the P45-12 wire; and repair, if necessary. The actions are required to be accomplished in accordance with the alert customer bulletin described previously; except as discussed below.

Differences Between This AD and the Alert Customer Bulletin

Operators should note that, although the alert customer bulletin specifies that the manufacturer be contacted for disposition of discrepant conditions, this AD requires repair of those conditions to be accomplished per a method approved by the FAA.

The alert customer bulletin also recommends that the actions be accomplished before further flight for airplanes located at a maintenance facility; or, for airplanes not located at a facility where the inspection can be performed, it allows a one-time flight to a maintenance facility where it can be performed. However, this AD requires that the one-time inspection be accomplished within 5 days after the effective date of this AD. In developing an appropriate compliance time for this AD, we considered not only the manufacturer's recommendation, but the degree of urgency associated with addressing the subject unsafe condition, and the average utilization of the affected fleet. In light of these factors, we find a 5-day compliance time for completing the required actions to be warranted, in that it represents an appropriate interval of time allowable for affected airplanes to continue to operate without compromising safety.

Operators should note that, although the Accomplishment Instructions of the referenced alert customer bulletin describe procedures for completing a Service Reply Card for reporting compliance with the alert customer bulletin, this AD does not require that action. The FAA does not need this information from operators.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-255-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-21-03 Gulfstream Aerospace Corporation: Amendment 39-12909. Docket 2002-NM-255-AD.

Applicability: Model G-V series airplanes; having serial numbers 501 through 686 inclusive, and 699; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent the circuit breaker wiring from becoming pinched or damaged, causing arcing between the wire and attaching bracket, which could result in smoke and/or fire in the pilot's circuit breaker panel, accomplish the following:

Inspection

(a) Within 5 days after the effective date of this AD, perform a one-time general visual inspection of the pilot's circuit breaker panel wiring for discrepancies (e.g., wire damage), in accordance with Gulfstream V Alert Customer Bulletin No. 19, including Drawing 1159SB59301, dated September 26, 2002, including attachment; except that it is not necessary to complete the Service Reply Card. Pay special attention to wire P45-12 that runs from circuit breaker F10 to G5.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) If no discrepancy is found, before further flight, reroute wire P45-12 in accordance with the alert customer bulletin.

(2) If any discrepancy is found, before further flight, reroute wire P45-12 and repair discrepancies per a method approved by the Manager, Atlanta Aircraft Certification Office (ACO), FAA. For a repair method to be approved by the Manager, Atlanta ACO, as required by this paragraph, the Manager's approval letter must specifically reference this AD.

Alternative Methods of Compliance

(b) An alternative method of compliance or adjustment of the compliance time that provides an acceptable level of safety may be used if approved by the Manager, Atlanta ACO. Operators shall submit their requests through an appropriate FAA Principal Maintenance Inspector, who may add comments and then send it to the Manager, Atlanta ACO.

Note 3: Information concerning the existence of approved alternative methods of compliance with this AD, if any, may be obtained from the Atlanta ACO.

Special Flight Permits

(c) Special flight permits may be issued in accordance with sections 21.197 and 21.199 of the Federal Aviation Regulations (14 CFR 21.197 and 21.199) to operate the airplane to a location where the requirements of this AD can be accomplished.

Incorporation by Reference

(d) Unless otherwise provided by this AD, the actions shall be done in accordance with Gulfstream V Alert Customer Bulletin No. 19, including Drawing 1159SB59301, dated September 26, 2002, including attachment. This incorporation by reference was approved by the Director of the Federal Register in accordance with 5 U.S.C. 552(a) and 1 CFR part 51. Copies may be obtained from Gulfstream Aerospace Corporation, P.O. Box 2206, M/S D-10, Savannah, Georgia 31402-9980. Copies may be inspected at the FAA, Transport Airplane Directorate, 1601 Lind Avenue, SW., Renton, Washington; or at the FAA, Atlanta Aircraft Certification Office, One Crown Center, 1895 Phoenix Boulevard, Suite 450, Atlanta, Georgia; or at the Office of the Federal Register, 800 North Capitol Street, NW., suite 700, Washington, DC.

Effective Date

(e) This amendment becomes effective on October 21, 2002.

Issued in Renton, Washington, on October 7, 2002.
Ali Bahrami,
Acting Manager, Transport Airplane Directorate, Aircraft Certification Service.

[FR Doc. 02-26208 Filed 10-15-02; 8:45 am]

BILLING CODE 4910-13-P